DEPARTMENT OF HEALTH AND HUMAN SERVICES

Office of the National Coordinator for Health Information Technology, American Health Information Community Meeting

ACTION: Announcement of meeting.

SUMMARY: This notice announces the ninth meeting of the American Health Information Community in accordance with the Federal Advisory Committee Act (Pub. L. No. 92-463, 5 U.S.C., App.) The American Health Information Community will advise the Secretary and recommend specific actions to achieve a common interoperability framework for health information technology (IT).

DATES: October 31, 2006, from 8:30 a.m. to 1 p.m.

ADDRESSES: Hubert H. Humphrey building (200 Independence Avenue, SW., Washington, DC 20201), Conference Room 800.

FOR FURTHER INFORMATION CONTACT: Visit http://www.hhs.gov/healthit/ahic.html.

SUPPLEMENTARY INFORMATION: The Community will discuss personalized healthcare, review standards recommendations from the Health Information Technology Standards Panel, and set priorities for 2007.

A Web cast of the Community meeting will be available on the NIH Web site at: http://www.videocast.nih.gov/.

If you have special needs for the meeting, please contact (202) 690-7151.

Dated: October 4, 2006.
Judith Sparrow,
Director, American Health Information Community, Office of Programs and Coordination, Office of the National Coordinator.

[FR Doc. 06-8620 Filed 10-11-06; 8:45 am]

BILLING CODE 4150-24-M